FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 18, 2010.

A. Federal Reserve Bank of Atlanta (Clifford Stanford, Vice President) 1000 Peachtree Street, N.E., Atlanta, Georgia 30309:

1. Shelby Cicero Peeples, Jr., Dalton, Georgia; to acquire additional voting shares of FBD Holding Company, Inc., and thereby indirectly acquire additional voting shares of First Bank of Dalton, both of Dalton, Georgia.

2. Kenneth Richard Murray, Naples, Florida; to retain voting shares of Naples Bancorp, Inc., and thereby indirectly retain voting shares of Bank of Naples, both of Naples, Florida.

Board of Governors of the Federal Reserve System, July 29, 2010.
Robert deV. Frierson,
Deputy Secretary of the Board.

[FR Doc. 2010-19070 Filed 8-3-10; 8:45 am]

BILLING CODE 6210-01-S